COMMITTEE FOR PURCHASE FROM PEOPLE WHO ARE BLIND OR SEVERELY DISABLED

Procurement List; Addition and Deletion

AGENCY: Committee for Purchase from People Who Are Blind or Severely Disabled.

ACTION: Additions to and Deletions from Procurement List.

SUMMARY: This action adds to the Procurement List products to be furnished by nonprofit agencies employing persons who are blind or have other severe disabilities, and deletes from the Procurement List a service previously furnished by such agencies.

EFFECTIVE DATE: March 6, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION:

Addition

On December 3, 2004, the Committee for Purchase From People Who Are Blind or Severely Disabled published notice (69 F.R. 70223) of proposed additions to the Procurement List.

The following comments pertain to Tape, Pressure Sensitive.

Comments were received from the current contractor for these tapes in response to a Committee request for sales data. The contractor stated that it would experience an initial drop in sales volume, followed by termination of three employees, all with families, immediately. The contractor also noted that it had recently been certified as a participant in the 8(a) program.

The percentage of its sales which the contractor stated it would lose is well below the level which the Committee normally considers to constitute severe adverse impact. The current contract was not awarded under the 8(a) program, so the Committee's policy on refraining from adding products and services on 8(a) contracts to the Procurement List is not applicable in this situation. Taking all these circumstances into account, the Committee considers it appropriate to add the tapes to the Procurement List and create jobs for blind persons, whose unemployment rate is higher than the persons who will likely lose their jobs as a result of the Committee's action.

The following material pertains to item being added to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Product/NSN: Tape, Pressure Sensitive; 7510-00-266-6707; 7510-00-266-6708; 7510-00-266-6710.

NPA: Cincinnati Association for the Blind, Cincinnati, Ohio.

Contracting Activity: Office Supplies & Paper Products Acquisition Center, New York, NY.

Deletion

On December 10, 2004, the Committee for Purchase From People Who Are Blind or Severely Disabled published notice (69 FR 71778) of proposed deletion to the Procurement List.

After consideration of the relevant matter presented, the Committee has determined that the service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Food Service Attendant; Mississippi Air National Guard; Building 129, Dining Facility, Jackson, Mississippi.

NPA: Goodwill Industries of Mississippi, Inc., Ridgeland, Mississippi.

Contracting Activity: Mississippi Air National Guard, Jackson, Mississippi.

G. John Heyer,
General Counsel.

[FR Doc. 05-2204 Filed 2-3-05; 8:45 am]

BILLING CODE 6353-01-P